DEPARTMENT OF THE TREASURY

Submission for OMB Review; Comment Request

January 12, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 19, 2004 to be assured of consideration.

Internal Revenue Service (IRS)

OMB Number: 1545-0889.

Form Numbers: IRS Forms 8275 and 8275-R.

Type of Review: Extension.

Title: Form 8275: Disclosure Statement; and Form 8275-R: Regulation Disclosure Statement.

Description: Internal Revenue Code (IRC) section 6662 imposes accuracy related penalties for substantial understatement of tax liability or negligence or disregard of rules and regulations. Section 6694 imposes similar penalties on return preparers. Regulations sections 1.6662-4(e) and (f) provide for reduction of these penalties if adequate disclosure of the tax treatment is made on Form 8275 or, if the position is contrary to a regulation on Form 8275-R.

Respondents: Individuals or households, business or other for-profit, not-for-profit institutions, farms.

Estimated Number of Respondents/Recordkeepers: 595,000.

Estimated Burden Hours Respondent/Recordkeepers:

Recordkeeping | 3 hr., 35 min.
Learning about the law or the form | 53 min.
Preparing and sending the form to the IRS | 59 min.

Frequency of Response: Annually.

Estimated Total Reporting/Recordkeeping Burden: 5,575,000 hours.

Clearance Officer: Robert M. Coar, (202) 622-3579, Internal Revenue Service, Room 6411, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-1134 Filed 1-16-04; 8:45 am]

BILLING CODE 4830-01-P